DEPARTMENT OF STATE

[Public Notice 3770]

Office of the Coordinator for Counterterrorism; Designation of a Foreign Terrorist Organization

AGENCY: Department of State.

ACTION: Designation of a foreign terrorist organization.

Pursuant to section 219 of the Immigration and Nationality Act (“INA”), as added by the Antiterrorism and Effective Death Penalty Act of 1996, Pub. L. 104-132, section 302, 110 Stat. 1214, 1248 (1996), and amended by the Illegal Immigration Reform and Immigrant Responsibility Act of 1996, Pub. L. 104-208, 110 Stat. 3009 (1996), the Secretary of State hereby designates, effective September 10, 2001, the following organization as a foreign terrorist organization: The “United Self-Defense Forces of Colombia”, also known as the “Autodefensas Unidas de Colombia”, also known as the “AUC”.

Dated: September 5, 2001.
Ambassador Francis X. Taylor,
Coordinator for Counterterrorism, Department of State.

[FR Doc. 01-22638 Filed 9-7-01; 5:00 pm]

BILLING CODE 4710-10-P